DEPARTMENT OF TRANSPORTATION

National Highway Traffic Safety Administration

[U.S. DOT Docket Number NHTSA-2013-0089]

Reports, Forms, and Record Keeping Requirements

AGENCY: National Highway Traffic Safety Administration (NHTSA), Department of Transportation (DOT).

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections. This document describes one collection of information for which NHTSA intends to seek OMB approval.

DATES: Comments must be received on or before November 5, 2013.

ADDRESSES: You may submit comments identified by docket number at the heading of this notice by any of the following methods:

• Web site: http://www.regulations.gov. Follow the instructions for submitting comments on the electronic docket site by clicking on “Help and Information” or “Help/Info.”

• Fax: 1-202-493-2251.

• Mail: U.S. Department of Transportation, Docket Operations, M-30, Room W12-140, 1200 New Jersey Avenue SE., Washington, DC 20590.

• Hand Delivery: 1200 New Jersey Avenue SE., West Building Ground Floor, Room W12-140, Washington, DC, between 9 a.m. and 5 p.m., Monday through Friday, except Federal Holidays.

• Federal eRulemaking Portal: Go to http://www.regulations.gov. Follow the online instructions for submitting comments.

Instructions: All submissions must include the agency name and docket number. Note that all comments received will be posted without change to http://www.regulations.gov, including any personal information provided. Please see the Privacy Act discussion below. We will consider all comments received before the close of business on the comment closing date indicated above. To the extent possible, we will also consider comments filed after the closing date.

Docket: For access to the docket to read comments received, go to http://www.regulations.gov at any time or to 1200 New Jersey Avenue SE., West Building Ground Floor, Room W12-140, Washington, DC 20590, between 9 a.m. and 5 p.m., Monday through Friday, except Federal Holidays. Telephone: (202) 366-9826.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.dot.gov/privacy.html.

FOR FURTHER INFORMATION CONTACT: For additional information or access to background documents, contact James Bean, Office of Data Acquisitions (NVS-410), Room W53-489, 1200 New Jersey Avenue SE., Washington, DC 20590. Mr. Bean's telephone number is (202) 366-2837.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submissions of responses.

In compliance with these requirements, NHTSA asks public comment on the following proposed collection of information:

Title: National Automotive Sampling System (NASS) Law Enforcement Information

Type of Request: New information collection

OMB Control Number: Not assigned

Affected Public: Law Enforcement Agencies

Abstract: This collection of information is part of NHTSA's efforts to upgrade its crash data systems. NHTSA's National Automotive Sampling System (NASS) collects crash data on a nationally representative sample of police-reported traffic crashes and related injuries. NASS data are used by government, industry, and academia in the U.S. and around the world to make informed highway safety decisions.

Recognizing the importance as well as the limitations of the current NASS system, NHTSA is undertaking a modernization effort to upgrade its data systems by improving the information technology (IT) infrastructure, updating the data collected, and reexamining the NASS sample sites and sample size.

The current data system samples crashes through a clustered sample of law enforcement agencies that were selected decades ago. Using updated population and other auxiliary information, NHTSA has identified a new set of probabilistically selected geographic locations around the country that are expected to provide a more accurate traffic safety picture, more precise estimates, and greater insight into new and emerging data needs.

This collection of information will assist NHTSA with the next step in updating the NASS sample design, which is to select a fresh sample of law enforcement agencies within these primary sampling units (PSUs). This requires compiling basic crash count data from every law enforcement agency that responds to motor vehicle crashes in the PSUs. This data would be used to construct a measure of size in order to make informed and efficient choices in the probabilistic selection of the second stage sample units, the law enforcement agencies.

Estimated Annual Burden: 2,900 hours (2 hours per respondent).

Number of Respondents: 1,450

Issued in Washington, DC on: August 30, 2013.
Terry T. Shelton,
Associate Administrator, National Center for Statistics and Analysis.

[FR Doc. 2013-21676 Filed 9-5-13; 8:45 am]

BILLING CODE 4910-59-P